DEPARTMENT OF COMMERCE

National Oceanic and Atmospheric Administration

50 CFR Part 679

[Docket No. 060216045-6045-01; I.D. 091806A]

Fisheries of the Exclusive Economic Zone Off Alaska; Adjustment of Pacific Cod Total Allowable Catch Amount in the Bering Sea and Aleutian Islands

AGENCY: National Marine Fisheries Service (NMFS), National Oceanic and Atmospheric Administration (NOAA), Commerce.

ACTION: Temporary rule; inseason adjustment; request for comments.

SUMMARY: NMFS is adjusting the 2006 Pacific cod total allowable catch (TAC) amount in the Bering Sea and Aleutian Islands Management Area (BSAI). This action is necessary to allow harvest of Pacific cod that will not be harvested under the State of Alaska's guideline harvest level (GHL) for the Aleutian Islands subarea state waters Pacific cod fishery. This action is consistent with the goals and objectives of the Fishery Management Plan for Groundfish of the BSAI (FMP).

DATES: Effective September 19, 2006, through 2400 hrs, Alaska local time (A.l.t.), December 31, 2007.

Comments must be received at the following address no later than 4:30 p.m., A.l.t., October 4, 2006.

ADDRESSES: Send comments to Sue Salveson, Assistant Regional Administrator, Sustainable Fisheries Division, Alaska Region, NMFS, Attn: Ellen Walsh. Comments may be submitted by:

• Mail to: P.O. Box 21668, Juneau, AK 99802;

• Hand delivery to the Federal Building, 709 West 9th Street, Room 420A, Juneau, Alaska;

• FAX to 907-586-7557;

• E-mail to statepcodrelb@noaa.gov and include in the subject line of the e-mail comment the document identifier: statepcodrelb (E-mail comments, with or without attachments, are limited to 5 megabytes); or

• Webform at the Federal eRulemaking Portal: http://www.regulations.gov. Follow the instructions at that site for submitting comments.

FOR FURTHER INFORMATION CONTACT: Josh Keaton, 907-586-7228.

SUPPLEMENTARY INFORMATION: NMFS manages the groundfish fishery in the BSAI according to the FMP prepared by the North Pacific Fishery Management Council (Council) under authority of the Magnuson-Stevens Fishery Conservation and Management Act. Regulations governing fishing by U.S. vessels in accordance with the FMP appear at subpart H of 50 CFR part 600 and 50 CFR part 679.

The 2006 and 2007 final harvest specifications for groundfish in the BSAI (71 FR 10894, March 3, 2006) established the 2006 and 2007 Pacific cod acceptable biological catches (ABC) as 194,000 metric tons (mt) and 148,000 mt, respectively. The TACs were set equal to the ABCs for Pacific cod in the BSAI. On March 14, 2006, NMFS reduced the Pacific cod TAC in the BSAI after the Alaska Department of Fish and Game (ADF&G) announced by emergency regulation a Pacific cod GHL, west of 170 degrees west longitude in the Aleutian Islands subarea, equal to three percent of the Pacific cod ABC in the BSAI (71 FR 13777, March 17, 2006).

On August 28, 2006, ADF&G announced the closure of the 2006 state waters Pacific cod fishery, west of 170 degrees west longitude in the Aleutian Islands subarea, effective 11:59 a.m. A.l.t., September 1, 2006. As of September 1, 2006, the Administrator, Alaska Region, NMFS, (Regional Administrator) has determined that ADF&G is making available 1,588 mt of unharvested Pacific cod from the Aleutian Islands state waters Pacific cod fishery to the federal Pacific cod fisheries. As a result, the Regional Administrator has determined, using the best scientific information available, that the current 2006 TAC is incorrectly specified because the transfer of unharvested state waters GHL in the Aleutian Islands subarea to the federally managed fisheries requires an increase to the 2006 TAC of Pacific cod in the BSAI. This action will not exceed the 2006 ABC of Pacific cod in the BSAI established in the 2006 and 2007 final harvest specifications for groundfish in the BSAI (71 FR 10894, March 3, 2006). Therefore, in accordance with § 679.25(a)(1)(iii), (a)(2)(i)(B) and (a)(2)(iv), the Regional Administrator adjusts the 2006 Pacific cod TAC in the BSAI.

Pursuant to § 679.20(a)(7), Tables 1, 2, 5, 12, and 14 of the 2006 and 2007 final harvest specifications for groundfish in the BSAI (71 FR 10894, March 3, 2006) and adjustment (71 FR 13777, March 17, 2006) are revised for the 2006 Pacific cod TAC consistent with this adjustment.

TABLE 1—2006 AND 2007 OVERFISHING LEVEL (OFL), ACCEPTABLE BIOLOGICAL CATCH (ABC), TOTAL ALLOWABLE CATCH (TAC), INITIAL TAC (ITAC), AND CDQ RESERVE ALLOCATION OF GROUNDFISH IN THE BSAI¹
[Amounts are in metric tons]
Species | Area | 2006: OFL | 2006: ABC | 2006: TAC | 2006: ITAC² | 2006: CDQ³ | 2007: OFL | 2007: ABC | 2007: TAC | 2007: ITAC² | 2007: CDQ³
Pollock⁴ | BS² | 2,090,000 | 1,930,000 | 1,485,000 | 1,336,500 | 148,500 | 1,930,000 | 1,790,000 | 1,500,000 | 1,350,000 | 150,000
| AI² | 39,100 | 29,400 | 19,000 | 17,100 | 1,900 | 39,100 | 29,400 | 19,000 | 17,100 | 1,900
| Bogoslof | 50,600 | 5,500 | 10 | 10 | n/a | 50,600 | 5,500 | 10 | 10 | n/a
Pacific cod | BSAI | 230,000 | 194,000 | 189,768 | 161,302 | 14,233 | 176,000 | 148,000 | 143,560 | 122,026 | 10,767
Sablefish⁵ | BS | 3,680 | 3,060 | 2,820 | 2,327 | 388 | 3,260 | 2,700 | 2,700 | 1,148 | 101
| AI | 3,740 | 3,100 | 3,000 | 2,438 | 499 | 3,300 | 2,740 | 2,740 | 582 | 51
Atka mackerel | BSAI | 130,000 | 110,000 | 63,000 | 53,550 | 4,725 | 107,000 | 91,000 | 63,000 | 53,550 | 4,725
| EAI/BS | n/a | 21,780 | 7,500 | 6,375 | 563 | n/a | 18,020 | 7,500 | 6,375 | 563
| CAI | n/a | 46,860 | 40,000 | 34,000 | 3,000 | n/a | 38,760 | 38,000 | 32,300 | 2,850
| WAI | n/a | 41,360 | 15,500 | 13,175 | 1,163 | n/a | 34,220 | 17,500 | 14,875 | 1,313
Yellowfin sole | BSAI | 144,000 | 121,000 | 95,701 | 81,346 | 7,178 | 137,000 | 116,000 | 107,641 | 91,495 | 8,073
Rock sole | BSAI | 150,000 | 126,000 | 41,500 | 35,275 | 3,113 | 145,000 | 122,000 | 44,000 | 37,400 | 3,300
Greenland turbot | BSAI | 14,200 | 2,740 | 2,740 | 2,329 | 206 | 13,400 | 2,630 | 2,630 | 2,236 | 197
| BS | n/a | 1,890 | 1,890 | 1,607 | 142 | n/a | 1,815 | 1,815 | 1,543 | 136
| AI | n/a | 850 | 850 | 723 | 64 | n/a | 815 | 815 | 693 | 61
Arrowtooth flounder | BSAI | 166,000 | 136,000 | 13,000 | 11,050 | 975 | 174,000 | 142,000 | 18,000 | 15,300 | 1,350
Flathead sole | BSAI | 71,800 | 59,800 | 19,500 | 16,575 | 1,463 | 67,900 | 56,600 | 22,000 | 18,700 | 1,650
Other flatfish⁶ | BSAI | 24,200 | 18,100 | 3,500 | 2,975 | 263 | 24,200 | 18,100 | 5,000 | 4,250 | 375
Alaska plaice | BSAI | 237,000 | 188,000 | 8,000 | 6,800 | 600 | 231,000 | 183,000 | 15,000 | 12,750 | 1,125
Pacific ocean perch | BSAI | 17,600 | 14,800 | 12,600 | 10,710 | 945 | 17,600 | 14,800 | 14,800 | 12,580 | 1,110
| BS | n/a | 2,960 | 1,400 | 1,190 | 105 | n/a | 2,960 | 2,960 | 2,516 | 222
| EAI | n/a | 3,256 | 3,080 | 2,618 | 231 | n/a | 3,256 | 3,256 | 2,768 | 244
| CAI | n/a | 3,212 | 3,035 | 2,580 | 228 | n/a | 3,212 | 3,212 | 2,730 | 241
| WAI | n/a | 5,372 | 5,085 | 4,322 | 381 | n/a | 5,375 | 5,372 | 4,566 | 403
Northern rockfish | BSAI | 10,100 | 8,530 | 4,500 | 3,825 | 338 | 9,890 | 8,320 | 5,000 | 4,250 | 375
Shortraker rockfish | BSAI | 774 | 580 | 580 | 493 | 44 | 774 | 580 | 580 | 493 | 44
Rougheye rockfish | BSAI | 299 | 224 | 224 | 190 | 17 | 299 | 224 | 224 | 190 | 17
Other rockfish⁷ | BSAI | 1,870 | 1,400 | 1,050 | 893 | 79 | 1,870 | 1,400 | 1,400 | 1,190 | 105
| BS | n/a | 810 | 460 | 391 | 35 | n/a | 810 | 810 | 689 | 61
| AI | n/a | 590 | 590 | 502 | 44 | n/a | 590 | 590 | 502 | 44
Squid | BSAI | 2,620 | 1,970 | 1,275 | 1,084 | n/a | 2,620 | 1,970 | 1,275 | 1,084 | n/a
Other species⁸ | BSAI | 89,404 | 58,882 | 29,000 | 24,650 | 2,175 | 89,404 | 62,950 | 27,000 | 22,950 | 2,025
TOTAL |  | 3,476,987 | 3,013,086 | 1,995,768 | 1,771,423 | 187,641 | 3,224,217 | 2,799,914 | 1,995,560 | 1,769,284 | 187,290
¹These amounts apply to the entire BSAI management area unless otherwise specified. With the exception of pollock, and for the purpose of these harvest specifications, the Bering Sea (BS) subarea includes the Bogoslof District.
²Except for pollock and the portion of the sablefish TAC allocated to hook-and-line and pot gear, 15 percent of each TAC is put into a reserve. The ITAC for each species is the remainder of the TAC after the subtraction of these reserves.
³Except for pollock, squid and the hook-and-line or pot gear allocation of sablefish, one half of the amount of the TACs placed in reserve, or 7.5 percent of the TACs, is designated as a CDQ reserve for use by CDQ participants (see §§ 679.20(b)(1)(iii) and 679.31).
⁴Pursuant to § 679.20(a)(5)(i)(A)(1), the annual Bering Sea pollock TAC after subtraction for the CDQ directed fishing allowance - 10 percent and the ICA - 3.35 percent, is further allocated by sector for a directed pollock fishery as follows: inshore - 50 percent; catcher/processor - 40 percent; and motherships - 10 percent. Pursuant to § 679.20(a)(5)(iii)(B)(2)(i) and (ii), the annual AI pollock TAC, after subtracting first for the CDQ directed fishing allowance - 10 percent and second for the ICA - 1,800 mt, is allocated to the Aleut Corporation for a directed pollock fishery.
⁵Twenty percent of the sablefish TAC allocated to hook-and-line gear or pot gear and 7.5 percent of the sablefish TAC allocated to trawl gear is reserved for use by CDQ participants (see § 679.20(b)(1)(iii)).
⁶ “Other flatfish” includes all flatfish species, except for halibut (a prohibited species), flathead sole, Greenland turbot, rock sole, yellowfin sole, arrowtooth flounder and Alaska plaice.
⁷ “Other rockfish” includes all Sebastes and Sebastolobus species except for Pacific ocean perch, northern, shortraker, and rougheye rockfish.
⁸“Other species” includes sculpins, sharks, skates and octopus. Forage fish, as defined at § 679.2, are not included in the “other species” category.

TABLE 2—2006 AND 2007 APPORTIONMENT OF RESERVES TO ITAC CATEGORIES
[Amounts are in metric tons]
Species—area or subarea | 2006 Reserve amount | 2006 Final ITAC | 2007 Reserve amount | 2007 Final ITAC
Atka mackerel--Eastern Aleutian District and Bering Sea subarea | 563 | 6,938 | 563 | 6,938
Atka mackerel--Central Aleutian District | 3,000 | 37,000 | 2,850 | 35,150
Atka mackerel--Western Aleutian District | 1,163 | 14,338 | 1,313 | 16,188
Pacific ocean perch--Eastern Aleutian District | 231 | 2,849 | 244 | 3,012
Pacific ocean perch--Central Aleutian District | 228 | 2,808 | 241 | 2,971
Pacific ocean perch--Western Aleutian District | 381 | 4,703 | 403 | 4,969
Pacific cod--BSAI | 14,233 | 175,535 | 10,767 | 132,793
Shortraker rockfish BSAI | 44 | 537 | 44 | 537
Rougheye rockfish BSAI | 17 | 207 | 17 | 207
Northern rockfish-BSAI | 338 | 4,163 | 375 | 4,625
Other rockfish--Bering Sea subarea | 35 | 426 | 61 | 750
Total | 20,233 | 249,504 | 16,878 | 208,140

TABLE 5—2006 AND 2007 GEAR SHARES AND SEASONAL ALLOWANCES OF THE BSAI PACIFIC COD ITAC
[Amounts are in metric tons]
Gear Sector | Percent | 2006 Share of gear sector total | 2006 Subtotal percentages for gear sectors | 2006 Share of gear sector total | 2006 Seasonal apportionment¹: Date | 2006 Seasonal apportionment¹: Amount | 2007 Share of gear sector total | 2007 Subtotal percentages for gear sectors | 2007 Share of gear sector total | 2007 Seasonal apportionment¹: Date | 2007 Seasonal apportionment¹: Amount
Total hook-and-line/pot gear | 51 | 89,523 | n/a | n/a | n/a | n/a | 67,724 | n/a | n/a | n/a | n/a
Hook-and-line/pot ICA | n/a | n/a | n/a | 500 | n/a | n/a | n/a | n/a | 500 | n/a | n/a
Hook-and-line/pot sub-total | n/a | 89,023 | n/a | n/a | n/a | n/a | 67,224 | n/a | n/a | n/a | n/a
Hook-and-line C/P | n/a | n/a | 80 | 71,218 | Jan 1-Jun 10 Jun 10-Dec 31 | 42,731 28,487 | n/a | 80 | 53,780 | Jan 1-Jun 10 Jun 10-Dec 31 | 32,268 21,512
Hook-and-line CV | n/a | n/a | 0.3 | 267 | Jan 1-Jun 10 Jun 10-Dec 31 | 160 107 | n/a | 0.3 | 202 | Jan 1-Jun 10 Jun 10-Dec 31 | 121 81
Pot C/P | n/a | n/a | 3.3 | 2,938 | Jan 1-Jun 10 Sept 1-Dec 31 | 1,763 1,175 | n/a | 3.3 | 2,218 | Jan 1-Jun 10 Sept 1-Dec 31 | 1,331 887
Pot CV | n/a | n/a | 15 | 13,354 | Jan 1-Jun 10 Sept 1-Dec 31 | 8,012 5,342 | n/a | 15 | 10,084 | Jan 1-Jun 10 Sept 1-Dec 31 | 6,050 4,033
CV < 60 feet LOA using Hook-and-line or Pot gear | n/a | n/a | 1.4 | 1,246 | n/a | n/a | n/a | 1.4 | 941 | n/a | n/a
Total Trawl Gear | 47 | 82,502 | n/a | n/a | n/a | n/a | 62,413 | n/a | n/a | n/a | n/a
Trawl CV |  |  | 50 | 41,251 | Jan 20-Apr 1 | 28,876 |  | 50 | 31,206 | Jan 20-Apr 1 | 21,844
|  |  |  | n/a | Apr 1-Jun 10 | 4,125 |  |  | n/a | Apr 1-Jun 10 | 3,121
|  |  |  | n/a | Jun 10-Nov 1 | 8,250 |  |  | n/a | Jun 10-Nov 1 | 6,241
Trawl CP |  |  | 50 | 41,251 | Jan 20-Apr 1 | 20,626 |  | 50 | 31,206 | Jan 20-Apr 1 | 15,603
|  |  |  | n/a | Apr 1-Jun 10 | 12,375 |  |  | n/a | Apr 1-Jun 10 | 9,362
|  |  |  | n/a | Jun 10-Nov 1 | 8,250 |  |  | n/a | Jun 10-Nov 1 | 6,241
Jig | 2 | 3,510 | n/a | n/a | Jan 1-Apr 30 | 1,405 | 2,656 | n/a | n/a | Jan 1-Apr 30 | 1,062
|  |  | n/a | n/a | Apr 30-Aug 31 | 701 |  | n/a | n/a | Apr 30-Aug 31 | 531
|  |  | n/a | n/a | Aug 31-Dec 31 | 1,404 |  | n/a | n/a | Aug 31-Dec 31 | 1,062
Total | 100 | 175,535 | n/a | n/a | n/a | n/a | 132,793 | n/a | n/a | n/a | n/a
¹For most non-trawl gear the first season is allocated 60 percent of the ITAC and the second season is allocated 40 percent of the ITAC. For jig gear, the first season and third seasons are each allocated 40 percent of the ITAC and the second season is allocated 20 percent of the ITAC. No seasonal harvest constraints are imposed for the Pacific cod fishery by catcher vessels less than 60 feet (18.3 m) LOA using hook-and-line or pot gear. For trawl gear, the first season is allocated 60 percent of the ITAC and the second and third seasons are each allocated 20 percent of the ITAC. The trawl catcher vessels' allocation is further allocated as 70 percent in the first season, 10 percent in the second season and 20 percent in the third season. The trawl catcher/processors' allocation is allocated 50 percent in the first season, 30 percent in the second season and 20 percent in the third season. Any unused portion of a seasonal Pacific cod allowance will be reapportioned to the next seasonal allowance.

TABLE 12—2006 AND 2007 LISTED BSAI AMERICAN FISHERIES ACT CATCHER/PROCESSOR GROUNDFISH SIDEBOARD LIMITS
[Amounts are in metric tons]
Target species | Area | 1995 - 1997: Retained catch | 1995 - 1997: Total catch | 1995 - 1997: Ratio of retained catch to total catch | 2006 ITAC available to trawl C/Ps | 2006 C/P sideboard limit | 2007 ITAC available to trawl C/Ps | 2007 C/P sideboard limit
Pacific cod trawl | BSAI | 12,424 | 48,177 | 0.258 | 41,251 | 10,643 | 31,206 | 8,051
Sablefish trawl | BS | 8 | 497 | 0.016 | 1,199 | 19 | 1,148 | 18
| AI | 0 | 145 | 0.000 | 638 | 0 | 582 | 0
Atka mackerel | Central AI | n/a | n/a | n/a | n/a | n/a | n/a | n/a
| A season¹ | n/a | n/a | 0.115 | 18,500 | 2,128 | 17,575 | 2,021
| HLA limit² | n/a | n/a | n/a | 11,100 | 1,277 | 10,545 | 1,213
| B season¹ | n/a | n/a | 0.115 | 18,500 | 2,128 | 17,575 | 2,021
| HLA limit² | n/a | n/a | n/a | 11,100 | 1,277 | 10,545 | 1,213
| Western AI | n/a | n/a | n/a | n/a | n/a | n/a | n/a
| A season¹ | n/a | n/a | 0.200 | 7,169 | 1,434 | 8,094 | 1,619
| HLA limit² | n/a | n/a | n/a | 4,301 | 860 | 4,856 | 971
| B season¹ | n/a | n/a | 0.200 | 7,169 | 1,434 | 8,094 | 1,619
| HLA limit² | n/a | n/a | n/a | 4,301 | 860 | 4,856 | 971
Yellowfin sole | BSAI | 100,192 | 435,788 | 0.230 | 81,346 | 18,710 | 91,495 | 21,044
Rock sole | BSAI | 6,317 | 169,362 | 0.037 | 35,275 | 1,305 | 37,400 | 1,384
Greenland turbot | BS | 121 | 17,305 | 0.007 | 1,607 | 11 | 1,543 | 11
| AI | 23 | 4,987 | 0.005 | 723 | 4 | 693 | 3
Arrowtooth flounder | BSAI | 76 | 33,987 | 0.002 | 11,050 | 22 | 15,300 | 31
Flathead sole | BSAI | 1,925 | 52,755 | 0.036 | 16,575 | 597 | 18,700 | 673
Alaska plaice | BSAI | 14 | 9,438 | 0.001 | 6,800 | 7 | 12,750 | 13
Other flatfish | BSAI | 3,058 | 52,298 | 0.058 | 2,975 | 173 | 4,250 | 247
Pacific ocean perch | BS | 12 | 4,879 | 0.002 | 1,190 | 2 | 2,516 | 5
| Eastern AI | 125 | 6,179 | 0.020 | 2,849 | 57 | 3,012 | 60
| Central AI | 3 | 5,698 | 0.001 | 2,808 | 3 | 2,971 | 3
| Western AI | 54 | 13,598 | 0.004 | 4,703 | 19 | 4,969 | 20
Northern rockfish | BSAI | 91 | 13,040 | 0.007 | 4,163 | 29 | 4,625 | 32
Shortraker rockfish | BSAI | 50 | 2,811 | 0.018 | 537 | 10 | 537 | 10
Rougheye rockfish | BSAI | 50 | 2,811 | 0.018 | 207 | 4 | 207 | 4
Other rockfish | BS | 18 | 621 | 0.029 | 426 | 12 | 750 | 22
| AI | 22 | 806 | 0.027 | 502 | 14 | 502 | 14
Squid | BSAI | 73 | 3,328 | 0.022 | 1,084 | 24 | 1,084 | 24
Other species | BSAI | 553 | 68,672 | 0.008 | 24,650 | 197 | 22,950 | 184
¹The seasonal apportionment of Atka mackerel in the open access fishery is 50 percent in the A season and 50 percent in the B season. Listed AFA catcher/processors are limited to harvesting no more than zero in the Eastern Aleutian District and Bering Sea subarea, 20 percent of the annual ITAC specified for the Western Aleutian District, and 11.5 percent of the annual ITAC specified for the Central Aleutian District.
² Harvest Limit Area (HLA) limit refers to the amount of each seasonal allowance that is available for fishing inside the HLA (see § 679.2). In 2006 and 2007, 60 percent of each seasonal allowance is available for fishing inside the HLA in the Western and Central Aleutian Districts.

TABLE 14—2006 AND 2007 BSAI AMERICAN FISHERIES ACT CATCHER VESSEL SIDEBOARD LIMITS
[Amounts are in metric tons]
Species | Fishery by area/season/ processor/gear | Ratio of 1995-1997 AFA CV catch to 1995-1997 TAC | 2006 initial TAC | 2006 Catcher vessel sideboard limits | 2007 initial TAC | 2007 Catcher vessel sideboard limits
Pacific cod | BSAI | n/a | n/a | n/a | n/a | n/a
| Jig gear | 0.0000 | 3,510 | 0 | 2,656 | 0
| Hook-and-line CV | n/a | n/a | n/a | n/a | n/a
| Jan 1 - Jun 10 | 0.0006 | 160 | 0 | 121 | 0
| Jun 10 - Dec 31 | 0.0006 | 107 | 0 | 81 | 0
| Pot gear CV | n/a | n/a | n/a | n/a | n/a
| Jan 1 - Jun 10 | 0.0006 | 8,013 | 5 | 6,050 | 4
| Sept 1 - Dec 31 | 0.0006 | 5,341 | 3 | 4,033 | 2
| CV < 60 feet LOA using hook-and-line or pot gear | 0.0006 | 1,245 | 1 | 941 | 1
| Trawl gear CV | n/a | n/a | n/a | n/a | n/a
| Jan 20 - Apr 1 | 0.8609 | 28,876 | 24,859 | 21,844 | 18,805
| Apr 1 - Jun 10 | 0.8609 | 4,125 | 3,551 | 3,121 | 2,687
| Jun 10 - Nov 1 | 0.8609 | 8,250 | 7,102 | 6,241 | 5,373
Sablefish | BS trawl gear | 0.0906 | 1,199 | 109 | 1,148 | 104
| AI trawl gear | 0.0645 | 638 | 41 | 582 | 38
Atka mackerel | Eastern AI/BS | n/a | n/a | n/a | n/a | n/a
| Jig gear | 0.0031 | 69 | 0 | 69 | 0
| Other gear | n/a | n/a | n/a | n/a | n/a
| Jan 1 - Apr 15 | 0.0032 | 3,434 | 11 | 3,434 | 11
| Sept 1 - Nov 1 | 0.0032 | 3,434 | 11 | 3,434 | 11
| Central AI | n/a | n/a | n/a | n/a | n/a
| Jan - Apr 15 | 0.0001 | 18,500 | 2 | 17,575 | 2
| HLA limit | 0.0001 | 11,100 | 1 | 10,545 | 1
| Sept 1 - Nov 1 | 0.0001 | 18,500 | 2 | 17,575 | 2
| HLA limit | 0.0001 | 11,100 | 1 | 10,545 | 1
| Western AI | n/a | n/a | n/a | n/a | n/a
| Jan - Apr 15 | 0.0000 | 7,169 | 0 | 8,094 | 0
| HLA limit | n/a | 4,301 | 0 | 4,856 | 0
| Sept 1 - Nov 1 | 0.0000 | 7,169 | 0 | 8,094 | 0
| HLA limit | n/a | 4,301 | 0 | 4,856 | 0
Yellowfin sole | BSAI | 0.0647 | 81,346 | 5,263 | 91,495 | 5,920
Rock sole | BSAI | 0.0341 | 35,275 | 1,203 | 37,400 | 1,275
Greenland Turbot | BS | 0.0645 | 1,607 | 104 | 1,543 | 100
| AI | 0.0205 | 723 | 15 | 693 | 14
Arrowtooth flounder | BSAI | 0.0690 | 11,050 | 762 | 15,300 | 1,056
Alaska plaice | BSAI | 0.0441 | 6,800 | 300 | 12,750 | 562
Other flatfish | BSAI | 0.0441 | 2,975 | 131 | 4,250 | 187
Pacific ocean perch | BS | 0.1000 | 1,190 | 119 | 2,516 | 252
| Eastern AI | 0.0077 | 2,849 | 22 | 3,012 | 23
| Central AI | 0.0025 | 2,808 | 7 | 2,971 | 7
| Western AI | 0.0000 | 4,703 | 0 | 4,969 | 0
Northern rockfish | BSAI | 0.0084 | 4,163 | 35 | 4,625 | 39
Shortraker rockfish | BSAI | 0.0037 | 537 | 2 | 537 | 2
Rougheye rockfish | BSAI | 0.0037 | 207 | 1 | 207 | 1
Other rockfish | BS | 0.0048 | 426 | 2 | 750 | 4
| AI | 0.0095 | 502 | 5 | 502 | 5
Squid | BSAI | 0.3827 | 1,084 | 415 | 1,084 | 415
Other species | BSAI | 0.0541 | 24,650 | 1,334 | 22,950 | 1,242
Flathead Sole | BS trawl gear | 0.0505 | 16,575 | 837 | 18,700 | 944

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the adjustment of the 2006 Pacific cod TAC in the BSAI. ADF&G announced the closure of the state waters Pacific cod fishery in the Aleutian Islands subarea, effective 11:59 a.m., A.l.t, September 1, 2006. Since the 2006 fisheries are currently underway, it is necessary to immediately adjust the TACs to allow harvest of additional Pacific cod in the BSAI. Immediate adjustment is necessary to allow for the orderly conduct and efficient operation of this fishery, allow the industry to plan for the remainder of the 2006 fishing season, and avoid potential disruption to the fishing fleet and processors.

The AA also finds good cause to waive the 30-day delay in the effective date of this action under 5 U.S.C. 553(d)(3). This finding is based upon the reasons provided above for waiver of prior notice and opportunity for public comment.

Under § 679.25(c)(2), interested persons are invited to submit written comments on this action to the above address until October 4, 2006.

This action is required by § 679.20 and § 679.25 and is exempt from review under Executive Order 12866.

Authority: 16 U.S.C. 1801 et seq.

Dated: September 18, 2006.
James P. Burgess,
Acting Director, Office of Sustainable Fisheries, National Marine Fisheries Service.

[FR Doc. 06-8074 Filed 9-19-06; 1:45 pm]

BILLING CODE 3510-22-S